DEPARTMENT OF THE INTERIOR

Bureau of Land Management

[LLNVC02000 L57000000.BX0000 241A; 11-08807; MO# 4500019904; TAS: 14X5017]

Notice of Temporary Closures on Public Lands in Washoe County, NV

AGENCY: Bureau of Land Management, Interior.

ACTION: Notice of Temporary Closures.

SUMMARY: As authorized under the provisions of the Federal Land Policy and Management Act of 1976, notice is hereby given that certain public lands near Stead, Nevada, will be temporarily closed to all public use to provide for public safety during the 2011 Reno Air Racing Association Pylon Racing Seminar and the Reno National Championship Air Races.

DATES: Effective Dates: Closure periods to all public use are June 15 through June 18, 2011, and September 10 through September 18, 2011.

FOR FURTHER INFORMATION CONTACT: Linda J. Kelly, (775) 885-6000, e-mail: linda_kelly@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This closure applies to all public use, including pedestrian use and vehicles. The public lands affected by this closure are described as follows:

Mount Diablo Meridian, Nevada

T. 21 N., R. 19 E.,

Sec. 8, N½NE¼, SE¼NE¼, E½SE¼;

Sec.16, SW¼SW¼NE¼, NW¼, W½SE¼.

The area described contains 450 acres, more or less, in Washoe County. The closure notice and map of the closure area will be posted at the BLM Carson City District Office, 5665 Morgan Mill Road, Carson City, Nevada and on the BLM Web site: http://www.blm.gov/nv/st/en/fo/carson_city_field.html. Roads leading into the public lands under the closure will be posted to notify the public of the closure. Under the authority of Section 303(a) of the Federal Lands Policy and Management Act of 1976 (43 U.S.C. 1733(a)), 43 CFR 8360.9-7 and 43 CFR 8364.1, the Bureau of Land Management will enforce the following rules in the area described above:

All public use, whether motorized, on foot, or otherwise, is prohibited.

Exceptions: Closure restrictions do not apply to event officials, medical and rescue personnel, law enforcement, and agency personnel monitoring the events.

Penalties: Any person who fails to comply with the closure orders is subject to arrest and, upon conviction, may be fined not more than $1,000 and/or imprisonment for not more than 12 months under 43 CFR 8360.0-7. Violations may also be subject to the provisions of Title 18, U.S.C. sections 3571 and 3581.

Authority: 43 CFR 8364.1.

Linda J. Kelly,
Manager, Sierra Front Field Office.

[FR Doc. 2011-10614 Filed 4-29-11; 8:45 am]

BILLING CODE 4310-HC-P